DEPARTMENT OF LABOR

Employment and Training Administration

[TA-W-52,705]

Trojan Steel Co., Charleston, West Virginia; Notice of Affirmative Determination Regarding Application for Reconsideration

By letter October 30, 2003, a petitioner requested administrative reconsideration of the Department of Labor's Notice of Negative Determination Regarding Eligibility to Apply for Worker Adjustment Assistance, applicable to workers of the subject firm. The denial notice was signed on September 26, 2003, and published in the Federal Register on November 6, 2003 (68 FR 62833).

The Department reviewed the request for reconsideration and has determined that it will conduct further investigation based on the inclusion of additional customers of the subject firm.

Conclusion

After careful review of the application, I conclude that the claim is of sufficient weight to justify reconsideration of the Department of Labor's prior decision. The application is, therefore, granted.

Signed at Washington, DC, this 6th day of January, 2004.
Linda G. Poole,
Certifying Officer, Division of Trade Adjustment Assistance.

[FR Doc. 04-1524 Filed 1-23-04; 8:45 am]

BILLING CODE 4510-30-P